DEPARTMENT OF COMMERCE

National Oceanic and Atmospheric Administration

[RTID 0648-XD307]

North Pacific Fishery Management Council; Public Meetings

AGENCY: National Marine Fisheries Service (NMFS), National Oceanic and Atmospheric Administration (NOAA), Commerce.

ACTION: Notice of hybrid meetings.

SUMMARY: The North Pacific Fishery Management Council's (Council) Groundfish Plan Teams will hold a meeting. See SUPPLEMENTARY INFORMATION for agenda.

DATES: The meetings will be held on Tuesday, September 19, 2023 through Friday, September 22, 2023, from 9 a.m. to 5 p.m., PDT.

ADDRESSES: The meetings will be hybrid meetings. The in-person component of the meetings will be held at the Alaska Fishery Science Center in the Traynor Room (2076) and Room 2079, 7600 Sand Point Way NE, Building 4, Seattle, WA 98115. If you plan to attend in-person you need to notify Sara Cleaver (sara.cleaver@noaa.gov) or Diana Stram (diana.stram@noaa.gov) at least two days prior to the meeting (or two weeks prior if you are a foreign national). You will also need a valid U.S. Identification Card. If you are attending virtually, join the meeting online through the link at https://meetings.npfmc.org/Meeting/Details/3006.

Council address: North Pacific Fishery Management Council, 1007 W 3rd Ave, Suite 400, Anchorage, AK 99501-2252; telephone: (907) 271-2809. Instructions for attending the meeting are given under SUPPLEMENTARY INFORMATION, below.

FOR FURTHER INFORMATION CONTACT: Sara Cleaver, Council staff; telephone: (907) 271-2809; email: sara.cleaver@noaa.gov or Diana Stram, Council staff; email diana.stram@noaa.gov. For technical support, please contact our administrative staff; email: npfmc.admin@noaa.gov.

SUPPLEMENTARY INFORMATION:

Agenda

Tuesday, September 19, 2023 Through Friday, September 22, 2023

The Bering Sea and Aleutian Islands (BSAI) and Gulf of Alaska (GOA) Groundfish Plan Teams will meet to review and discuss issues of importance to both Plan Teams, including but not limited to: Economic and Socioeconomic Profile update, Ecosystem Status Report climate update, ecosystem surveys, bottom trawl surveys (BTS), longline survey, updates on model progress for stock assessments to be presented in November, and proposed harvest specifications. The agenda is subject to change, and the latest version will be posted at https://meetings.npfmc.org/Meeting/Details/3006 prior to the meeting, along with meeting materials.

Connection Information

You can attend the meeting online using a computer, tablet, or smartphone; or by phone only. Connection information will be posted online at: https://meetings.npfmc.org/Meeting/Details/3006.

Public Comment

Public comment letters should be submitted electronically via the electronic agenda at https://meetings.npfmc.org/Meeting/Details/3006.

Authority: 16 U.S.C. 1801 et seq.

Dated: August 30, 2023.
Rey Israel Marquez,
Acting Deputy Director, Office of Sustainable Fisheries, National Marine Fisheries Service.

[FR Doc. 2023-19083 Filed 9-1-23; 8:45 am]

BILLING CODE 3510-22-P